DEPARTMENT OF JUSTICE

Drug Enforcement Administration

[Docket No. DEA-804]

Bulk Manufacturer of Controlled Substances Application: Stepan Company

AGENCY: Drug Enforcement Administration, Justice.

ACTION: Notice of application.

SUMMARY: Stepan Company has applied to be registered as a bulk manufacturer of basic class(es) of controlled substance(s). Refer to SUPPLEMENTARY INFORMATION listed below for further drug information.

DATES: Registered bulk manufacturers of the affected basic class(es), and applicants therefore, may file written comments on or objections to the issuance of the proposed registration on or before May 10, 2021. Such persons may also file a written request for a hearing on the application on or before May 10, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on February 8, 2021, Stepan Company, 100 West Hunter Avenue, Maywood, New Jersey 07607-1021, applied to be registered as a bulk manufacturer of the following basic class(es) of controlled substance(s):

Controlled substance | Drug code | Schedule
Cocaine | 9041 | II
Ecgonine | 9180 | II

The company plans to manufacture the above-listed controlled substances in bulk for distribution to its customers. No other activity for these drug codes is authorized for this registration.

William T. McDermott,
Assistant Administrator.

[FR Doc. 2021-04808 Filed 3-8-21; 8:45 am]

BILLING CODE 4410-09-P